DEPARTMENT OF ENERGY

Office of Fossil Energy

Orders Granting Authority To Import and Export Natural Gas, Including the Import of Liquefied Natural Gas

In the matter of: 04-118-NG, 04-121-NG, 04-119-NG, 04-122-NG, 04-127-NG, 02-85-NG, 04-126-NG, 04-117-NG, 04-123-NG, 04-128-NG, 04-129-NG, 04-130-NG, 04-125-NG, 04-124-NG, 04-132-NG; Amerada Hess Corporation, Cascade Natural Gas Corporation, San Diego Gas & Electric Company, Keyspan Gas East Corporation, BP Energy Company, Keyspan Gas East Corporation, Bay State Gas Company, Engage Energy Canada, L.P., Nexen Marketing U.S.A. Inc., Termoelectria de Mexicali, S. de R.L. de C.V., Boss Energy, Ltd., Texas Eastern Transmission, LP, Boston Gas Company, Northern Utilities, Inc., Dominion Exploration Canada, Ltd.

AGENCY: Office of Fossil Energy, DOE.

ACTION: Notice of orders.

SUMMARY: The Office of Fossil Energy (FE) of the Department of Energy gives notice that during December 2004, it issued Orders granting authority to import and export natural gas, including the import of liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on January 5, 2005.
R.F. Corbin,
Manager, Natural Gas Regulatory Activities, Office of Oil and Gas Global Security and Supply, Office of Fossil Energy.

Appendix

Orders Granting Import/Export Authorizations
[DOE/FE Authority]
Order No. | Date issued | Importer/exporter FE Docket No. | Import volume | Export volume | Comments
2050 | 12-2-04 | Amerada Hess Corporation; 04-118-NG | 100 Bcf | 100 Bcf | Import and export natural gas from and to Canada beginning on January 1, 2005 and extending through December 31, 2006.
2052 | 12-6-04 | San Diego Gas & Electric Company; 04-119-NG | 5 Bcf |  | Import and export a combined total of natural gas from and to Mexico, beginning on November 22, 2004, and extending through November 21, 2006.
2053 | 12-9-04 | Keyspan Gas East Corporation; 04-122-NG | 25 Bcf |  | Import and export a combined total of natural gas from and to Canada, beginning on December 10, 2004, and extending through December 9, 2006.
2054 | 12-9-04 | BP Energy Company; 04-127-NG | 1,100 Bcf |  | Import and export a combined total of natural gas from and to Canada and Mexico, beginning on December 9, 2004, and extending through December 8, 2006.
1831-A | 12-9-04 | Keyspan as East Corporation; 02-85-NG |  |  | Vacate blanket import and export authority.
2055 | 12-9-04 | Bay State Gas Company; 04-126-NG | 60 Bcf |  | Import and export a combined total of natural gas from and to Canada, beginning on April 1, 2003, and extending through March 31, 2005.
2056 | 12-9-04 | Engage Energy Canada, L.P.; 04-117-NG | 1,000 Bcf |  | Import and export a combined total of natural gas from and to Canada, and import LNG from other international sources, beginning on January 1, 2005, and extending through December 31, 2006.
2057 | 12-9-04 | Nexen Marketing U.S.A. Inc.; 04-123-NG | 200 Bcf |  | Import and export a combined total of natural gas from and to Canada and Mexico, beginning on January 1, 2004, and extending through December 31, 2006.
2058 | 12-21-04 | Termoelectria de Mexicali, S. de R.L. de C.V.; 04-128-NG | 300 Bcf |  | Import and export a combined total of natural gas from and to Mexico, beginning on December 21, 2004, and extending through December 20, 2006.
2059 | 12-21-04 | Boss Energy, Ltd.; 04-129-NG | 10 Bcf; 5 Bcf | 10 Bcf; 5 Bcf | Import and export natural gas from and to Canada and Mexico, beginning on December 21, 2004, and extending through December 20, 2006.
2060 | 12-21-04 | Texas Eastern Transmission, L.P.; 04-130-NG | 2 Bcf |  | Import and export a combined total of natural gas from and to Mexico, beginning on December 17, 2004, and extending through December 16, 2006.
2061 | 12-22-06 | Boston Gas Company; 04-125-NG | 10 Bcf |  | Import and export a combined total of natural gas from and to Canada, beginning on December 22, 2004, and extending through December 21, 2006.
2062 | 12-22-04 | Northern Utilities, Inc.; 04-124-NG | 30 Bcf |  | Import and export a combined total of natural gas from and to Canada, beginning on January 15, 2005, and extending through January 14, 2007.
2063 | 12-30-04 | Dominion Exploration Canada Ltd.; 04-132-NG | 25 Bcf |  | Import natural gas from Canada, beginning on December 30, 2004, and extending through December 29, 2006.

[FR Doc. 05-713 Filed 1-12-05; 8:45 am]

BILLING CODE 6450-01-P